FEDERAL RESERVE SYSTEM

Change in Bank Control Notices, Acquisition of Shares of Bank or Bank Holding Companies; Correction

This notice corrects a notice (FR Doc. E7-14154) published on pages 40153 and 40154 of the issue for Monday, July 23, 2007.

Under the Federal Reserve Bank of Kansas City heading, the entry for Thew Randall L. Pieper Trust, Randall L. Pieper, trustee; and Joan L. Lawson Trust, Joan L. Lawson, trustee, all of Calhan, Colorado; Candice S. Enix Trust, Candice S. Enix, trustee, both of Centennial, Colorado; John A. Pieper Trust, John A. Pieper, trustee, Albuquerque, New Mexico, is revised to read as follows:

A. Federal Reserve Bank of Kansas City (Todd Offenbacker, Assistant Vice President) 925 Grand Avenue, Kansas City, Missouri 64198-0001:

1. The Randall L. Pieper Trust, Randall L. Pieper, trustee; and Joan L. Lawson Trust, Joan, L. Lawson, trustee, all of Calhan, Colorado; Candice S. Enix Trust, Candice S. Enix, trustee, both of Centennial, Colorado; John A. Pieper Trust, John A. Pieper, trustee, Albuquerque, New Mexico; to acquire voting shares of Pieper Bancorp, Inc., and thereby indirectly acqure voting shares of Farmers State Bank of Calhan, both of Calhan, Colorado, by becoming general partners of the Pieper Family Limited Partnership, LLP, which controls Pieper Bancorp, Inc., and Farmers State Bank of Calhan, both of Calhan, Colorado.

Comments on this application must be received by August 7, 2007.

Board of Governors of the Federal Reserve System, July 23, 2007.
Robert deV. Frierson,
Deputy Secretary of the Board.

[FR Doc. E7-14447 Filed 7-25-07; 8:45 am]

BILLING CODE 6210-01-S